NATIONAL SCIENCE FOUNDATION

Proposal Review Panel Physics; Notice of Meeting

In accordance with the Federal Advisory Committee Act (Pub. L. 92-463, as a.m.ended), the National Science Foundation announces the following meeting.

Name: Joint Quantum Institute (JQI) Site Visit, #1208.

Date and Time:

May 14, 2013 8:30 a.m.-6:30 p.m.

May 15, 2013 8:30 a.m.-6:00 p.m.

Place: University of Maryland, College Park, MD.

Type of Meeting: Partially Closed.

Contact Person: Jean Cottam-Allen, Program Director for Physics Frontier Center; National Science Foundation, 4201 Wilson Blvd., Arlington, VA 22230. Telephone: 703-292-8783.

Purpose of Meeting: To review the progress of the Center for the Physics of Living Cells, and a proposed in for supplemental funding.

Agenda

Tuesday, May 14, 2013

9:00 a.m.-10:00 a.m. Open—Welcome and Presentation of PFC.

10:00 a.m.-12:00 noon Closed—Science and Future plans reports.

12:00 noon-1:00 p.m. Open—Lunch with students and postdoctoral students from the PFC at JQI CSS 2115.

1:00 p.m.-5:00 p.m. Closed—Executive Sessions: Science and Future Plans Presentations, Outreach and Education, and meeting with PFC executive committee.

5:00 p.m.-6:00 p.m. Open—Poster Session Poster session in the hallways of second floor of the CSS.

6:30 p.m. Closed—Working Dinner.

Wednesday, May 15, 2013

9:00 a.m.-10:30 a.m. Closed—Executive Sessions: Meeting with Administration and PFC executive committee.

10:30 a.m.-6:00 p.m. Closed—Executive Session: Review and drafting report.

Reason for Closing: The proposals being reviewed include information of a proprietary or confidential nature, including technical information; information on personnel and proprietary data for present and future subcontracts. These matters are exempt under 5 U.S.C. 552b(c), (4) and (6) of the Government in the Sunshine Act.

Dated: April 24, 2013.
Susanne Bolton,
Committee Management Officer.

[FR Doc. 2013-10081 Filed 4-29-13; 8:45 a.m.]

BILLING CODE 7555-01-P